ELECTION ASSISTANCE COMMISSION

Sunshine Act Meetings

ACTION: Notice of Second Public Hearing on Voluntary Voting System Guidelines 2.0 Principles and Guidelines.

TIME AND DATE: The meeting will be held on Wednesday, April 23, 2019, from 3:00 p.m. until 6:00 p.m., MDT.

PLACE: Salt Lake Marriott Downtown at City Creek, 75 SW Temple, Salt Lake City, UT 84101. 801-531-0800. The meeting will also be streamed on www.eac.gov.

STATUS: This Hearing will be open to the public.

HEARING AGENDA: The Commission will conduct a public hearing to receive testimony and public comments on the proposed Voluntary Voting System Guidelines 2.0 Principles and Guidelines (VVSG 2.0). The full hearing agenda will be posted in advance at http://www.eac.gov. Members of the public who wish to speak at the hearing regarding the VVSG 2.0 Principles and Guidelines may send a request to participate to the EAC via email at votingsystemguidelines@eac.gov by 5:00 p.m. EDT Friday, April 19, 2019. Members of the public may also sign up at the public meeting as long as they do so before the public hearing begins. Due to time constraints, the EAC can select no more than ten participants amongst the volunteers who request to participate. The selected volunteers will be allotted five-minutes each to share their viewpoint. Participants will be selected on a first-come, first-served basis. However, to maximize diversity of input, only one participant per organization or entity will be chosen if necessary. Participants may also submit written testimony to be included in the record. All requests must include a description of what will be said, contact information that will be used to notify the requestor with status of request (phone number on which a message may be left or email), and include the subject/attention line (or on the envelope if by mail): Testimony on proposed VVSG 2.0 Principles and Guidelines. Please note that these testimonies will be made available to the public at www.eac.gov. Written testimony from members of the public regarding the proposed VVSG 2.0 Principles and Guidelines will also be accepted. Testimony will be included as part of the written record of the hearing, and it will be available on our website. Written testimony must be submitted before the end of the public hearing and, if by mail, received by 5:00 p.m. EDT on April 19, 2019. Written testimony should be submitted via email at votingsystemguidelines@eac.gov or via mail addressed to the U.S. Election Assistance Commission, 1335 East-West Highway, Suite 4300, Silver Spring, Maryland 20910, or by fax at 301-734-3108. All correspondence that contains written testimony must have in the subject/attention line (or on the envelope if by mail): Written testimony on proposed VVSG 2.0 Principles and Guidelines.

Clifford D. Tatum,
General Counsel, U.S. Election Assistance Commission.

[FR Doc. 2019-07150 Filed 4-8-19; 11:15 am]

BILLING CODE 6820-KF-P